DEPARTMENT OF JUSTICE

Antitrust Division

Notice Pursuant to the National Cooperative Research and Production Act of 1993—U.S. Photovoltaic Manufacturing Consortium, Inc.

Notice is hereby given that, on May 21, 2013, pursuant to Section 6(a) of the National Cooperative Research and Production Act of 1993, 15 U.S.C. 4301 et seq. (“the Act”), U.S. Photovoltaic Manufacturing Consortium, Inc. (“USPVMC”) has filed written notifications simultaneously with the Attorney General and the Federal Trade Commission disclosing changes in its membership. The notifications were filed for the purpose of extending the Act's provisions limiting the recovery of antitrust plaintiffs to actual damages under specified circumstances. Specifically, Esgee Technologies, Inc., Austin, TX; and Magnolia Solar, Albany, NY, have been added as parties to this venture.

No other changes have been made in either the membership or planned activity of the group research project. Membership in this group research project remains open, and USPVMC intends to file additional written notifications disclosing all changes in membership.

On November 14, 2011, USPVMC filed its original notification pursuant to Section 6(a) of the Act. The Department of Justice published a notice in the Federal Register pursuant to Section 6(b) of the Act on December 21, 2011 (76 FR 79218).

The last notification was filed with the Department on January 15, 2013. A notice was published in the Federal Register pursuant to Section 6(b) of the Act on February 12, 2013 (78 FR 9939).

Patricia A. Brink,
Director of Civil Enforcement, Antitrust Division.

[FR Doc. 2013-14780 Filed 6-20-13; 8:45 am]

BILLING CODE P